DEPARTMENT OF THE INTERIOR

Bureau of Land Management

[OR-102-04-5870-EU; HAG4-0099]

Direct Sale of Public Lands, OR 59372

AGENCY: Bureau of Land Management (BLM), Roseburg District.

ACTION: Notice of realty action.

SUMMARY: A 0.08-acre parcel in Douglas County, Oregon, is being considered for direct sale to Douglas County as part of the road widening project for State Highway 99. The parcel is the minimum size possible which still ensures that the County has all the land it needs to complete its project. The parcel proposed for sale is identified as suitable for disposal in the Roseburg District Resource Management Plan, June 2, 1995.

DATES: Submit comments on or before July 9, 2004.

ADDRESSES: Address all written comments concerning this notice to Glenn W. Lahti, Acting Field Manager, Swiftwater Field Office, 777 NW. Garden Valley Blvd., Roseburg, Oregon 97470.

FOR FURTHER INFORMATION CONTACT: Mary Johnson, District Realty Specialist at (541) 464-3276.

SUPPLEMENTARY INFORMATION: The following described public land in Douglas County, Oregon, has been examined and found suitable for sale under sections 203 and 209 of the Federal Land Policy and Management Act of 1976 (90 Stat. 2750, 43 U.S.C. 1713 and 1719). The parcel proposed for sale is identified as follows:

Willamette Meridian, Oregon

T. 25 S., R. 5 W.,

Parcel B, in DLC 52.

The area described contains 0.08 acre, more or less. Said legal description is subject to final approval and acceptance of a Cadastral Survey. This parcel will be sold at no less than the appraised market value, which has been determined to be $7,254.

In accordance with 43 CFR 2710.0-6(c)(3)(iii) direct sale procedures are appropriate since the land is needed for a public purpose.

Douglas County will be allowed 30 days from receipt of a written offer to submit a deposit of at least 20 percent of the appraised market value of the parcel, and within 180 days thereafter to submit the balance.

The following rights, reservations, and conditions will be included in the Deed conveying the land:

1. A reservation to the United States for a right-of-way for ditches and canals constructed by the authority of the United States. Act of August 30, 1890 (43 U.S.C. 945).

2. The Deed would also include a notice and indemnification statement under the Comprehensive Environmental Response, Compensation and Liability Act (42 U.S.C. 9620) holding the United States harmless from any release of hazardous materials that may have occurred as a result of the unauthorized use of the property by other parties.

The mineral interests being offered for conveyance have no known value. Acceptance of the direct sale offer constitutes an application for conveyance of the mineral interests also being offered under the authority of Section 209(b) of the Federal Land Policy and Management Act of 1976 (43 U.S.C. 1719). In addition to the full purchase price, a nonrefundable fee of $50 will be required for purchase of the mineral interests to be conveyed simultaneously with the sale of the land.

The land described is segregated from appropriation under the public land laws, including the mining laws, pending disposition of this action or 270 days from the date of publication of this notice, whichever occurs first.

Detailed information concerning this land sale, including the reservations, sale procedures and conditions, planning and environmental documents, and mineral report is available for review at the Roseburg District Office, Bureau of Land Management, 777 NW. Garden Valley Blvd., Roseburg, Oregon 97470.

In the absence of any objections, this proposal will become the final determination of the Department of the Interior.

Comments, including names, street addresses, and other contact information of respondents, will be available for public review. Individual respondents may request confidentiality. If you wish to request that BLM consider withholding your name, street address and other contact information (such as: Internet address, fax or phone number) from public review or from disclosure under the Freedom of Information Act, you must state this prominently at the beginning of your written comment. BLM will honor requests for confidentiality on a case-by-case basis to the extent allowed by law. BLM will make available for public inspection in their entirety all submissions from organizations and businesses, and from individuals identifying themselves as representatives or officials of organizations or businesses.

(Authority: 43 CFR 2711.1-2 (a)).

Dated: March 12, 2004.
Glenn W. Lahti,
Acting Field Manager, Swiftwater Field Office.

[FR Doc. 04-11732 Filed 5-24-04; 8:45 am]

BILLING CODE 4310-33-P